DEPARTMENT OF ENERGY

Federal Energy Regulatory Commission

[Docket No. 1-9-000]

The Office of Public Participation; Notice of Virtual Workshop on Technical Assistance

Take notice that the Federal Energy Regulatory Commission (Commission) staff, in conjunction with the U.S. Department of Energy's Pacific Northwest National Laboratory (PNNL), will convene, in the above-referenced proceeding, a virtual workshop on September 16, 2021, from 1:00 p.m. to 4:30 p.m. Eastern time, to discuss technical assistance in electric proceedings, solicit public input on their technical assistance needs, and explore ways the Office of Public Participation (OPP) could work with external entities to facilitate technical assistance to interested parties. The workshop will be held remotely.

The workshop will include a panelist discussion on technical assistance followed by facilitated break-out sessions for attendees to discuss their technical assistance needs. The workshop will explore barriers preventing the public, including consumers and consumer advocates, from fully participating in Commission proceedings and explore how OPP can facilitate technical assistance.

The workshop will be open for the public to attend, and there is no fee for attendance. Further details on the agenda, including registration information, can be found on the PNNL website. Information on this technical workshop will also be posted on the Calendar of Events on the Commission's website, www.ferc.gov, prior to the event.

The workshop will be accessible under section 508 of the Rehabilitation Act of 1973. For accessibility accommodations, please send an email to accessibility@ferc.gov or call toll free 1-866-208-3372 (voice) or 202-502-8659 (TTY), or send a FAX to 202-208-2106 with the required accommodations.

For more information about the workshop, please contact Corey Cox of the Commission's Office of Public Participation at 202-502-6848 or send an email to OPPWorkshop@ferc.gov.

Dated: August 23, 2021.
Kimberly D. Bose,
Secretary.

[FR Doc. 2021-18502 Filed 8-26-21; 8:45 am]

BILLING CODE 6717-01-P